AGENCY FOR INTERNATIONAL DEVELOPMENT

Senior Executive Service Performance Review Board: Update

AGENCY: U.S. Agency For International Development, Office Of Inspector General.

ACTION: Notice.

SUMMARY: This notice is hereby given of the appointment of members of the updated U.S. Agency for International Development, Office of Inspector General's Senior Executive Service Performance Review Board.

DATES: September 27, 2010.

FOR FURTHER INFORMATION CONTACT: Robert S. Ross, Assistant Inspector General for Management, Office of Inspector General (OIG), U.S. Agency for International Development (USAID), 1300 Pennsylvania Avenue, NW., Room 8.08-029, Washington, DC 20523-8700; telephone 202-712-0010; FAX 202-216-3392; Internet e-mail address: rross@usaid.gov (for e-mail messages, the subject line should include the following reference—USAID OIG Senior Executive Service (SES) Performance Review Board).

SUPPLEMENTARY INFORMATION: 5 U.S.C. 4314(b)(c) requires each agency to establish, in accordance with regulations prescribed by the Office of Personnel Management at 5 CFR part 430, subpart C and § 430.307 thereof in particular, one or more Senior Executive Service Performance Review Boards. The board shall review and evaluate the initial appraisal of each USAID OIG senior executive's performance by his or her supervisor, along with any recommendations to the appointing authority relative to the performance of the senior executive. This notice updates the membership of the USAID OIG's SES Performance Review Board as it was last published on September 22, 2009.

Approved: September 27, 2010.

The following have been selected as regular members of the SES Performance Review Board of the USAID OIG:

Michael G. Carroll, Deputy Inspector General

Howard Hendershot, Assistant Inspector General for Investigations

Robert S. Ross, Assistant Inspector General for Management

Lisa S. Goldfluss, Legal Counsel to the Inspector General

Alvin A. Brown, Assistant Inspector General, Millennium Challenge Corporation

Melinda Dempsey, Deputy Assistant Inspector General for Audit

Winona Varnon, Principal Deputy Assistant Secretary, Office of Management, Department of Education

Mark Bialek, Counsel to the Inspector General, Environmental Protection Agency

Richard Clark, Deputy Assistant Inspector General, Investigations, Department of Labor

Robert Peterson, Assistant Inspector General for Inspections, Department of State

Dated: September 28, 2010.
Donald A. Gambatesa,
Inspector General.

[FR Doc. 2010-25592 Filed 10-8-10; 8:45 am]

BILLING CODE 6116-01-P